ENVIRONMENTAL PROTECTION AGENCY

[EPA-HQ-OAR-2022-0082; FRL-10546-01-OMS]

Information Collection Request Submitted to OMB for Review and Approval; Comment Request; NSPS for Hospital/Medical/Infectious Waste Incinerators (Renewal)

AGENCY: Environmental Protection Agency (EPA).

ACTION: Notice.

SUMMARY: The Environmental Protection Agency (EPA) has submitted an information collection request (ICR), NSPS for Hospital/Medical/Infectious Waste Incinerators (EPA ICR Number 1730.12, OMB Control Number 2060-0363) to the Office of Management and Budget (OMB) for review and approval in accordance with the Paperwork Reduction Act. This is a proposed extension of the ICR, which is currently approved through February 28, 2023. Public comments were previously requested via the Federal Register on July 22, 2022 during a 60-day comment period. This notice allows for an additional 30 days for public comments. A fuller description of the ICR is given below, including its estimated burden and cost to the public. An agency may not conduct or sponsor and a person is not required to respond to a collection of information unless it displays a currently valid OMB control number.

DATES: Additional comments may be submitted on or before January 27, 2023.

ADDRESSES: Submit your comments, referencing Docket ID Number EPA-HQ-OAR-2022-0082, to (1) EPA online using https://www.regulations.gov/ (our preferred method), by email to a-and-r-docket@epa.gov, or by mail to: EPA Docket Center, Environmental Protection Agency, Mail Code 28221T, 1200 Pennsylvania Ave. NW, Washington, DC 20460, and (2) OMB's Office of Information and Regulatory Affairs using the interface at https://www.reginfo.gov/public/do/PRAMain. Find this particular information collection by selecting “Currently under Review—Open for Public Comments” or by using the search function.

The EPA's policy is that all comments received will be included in the public docket without change including any personal information provided, unless the comment includes profanity, threats, information claimed to be Confidential Business Information (CBI) or other information whose disclosure is restricted by statute.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting are available, in the public docket for this ICR. The docket can be viewed online at https://www.regulations.gov or in person at the EPA Docket Center, WJC West Building, Room 3334, 1301 Constitution Ave. NW, Washington, DC. The telephone number for the Docket Center is 202-566-1744. For additional information about EPA's public docket, visit http://www.epa.gov/dockets.

Abstract: The New Source Performance Standards (NSPS) for Hospital/Medical/Infectious Waste Incinerators (40 CFR part 60, subpart Ec) were proposed on February 27, 1995, promulgated on September 15, 1997, and amended on October 6, 2009, April 4, 2011, and May 12, 2013. The original standards applied to either owners or operators of Hospital/Medical/Infectious Waste Incinerators (HMIWI) for which construction commenced after June 20, 1996, or for which modification commenced after March 16, 1998, but no later than April 6, 2010. Sources subject to the original standards are now covered under the revised Emission Guidelines for HMIWI at 40 CFR part 60, subpart Ce. This information request covers the reporting and recordkeeping requirements associated with the revised NSPS, which apply to new facilities only. New facilities include those that commenced construction after December 1, 2008 or commenced modification after April 6, 2010. This information is being collected to assure compliance with 40 CFR part 60, subpart Ec.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Hospital/Medical/Infectious Waste Incinerators (HMIWI).

Respondent's obligation to respond: Mandatory (40 CFR part 60, subpart Ec).

Estimated number of respondents: 3 (total).

Frequency of response: Semiannual, annual.

Total estimated burden: 1,780 hours (per year). Burden is defined at 5 CFR 1320.3(b).

Total estimated cost: $370,000 (per year), includes $157,000 annualized capital or operation & maintenance costs.

Changes in the Estimates: There is an overall decrease in burden from the most recently approved ICR. The decrease in burden is due to an adjustment due to more accurate estimates of existing and anticipated new sources. This ICR adjusts the number of facilities subject to 40 CFR part 60, subpart Ec and reflects a decrease in the number of respondents with HMIWI units from ten to three. This adjustment is based on the EPA's updated inventory of affected sources which reflects consolidation within the industry. This ICR also updates the capital and operation and maintenance costs to 2021 dollars using the 2021 annual Chemical Engineering Plant Cost Index.

Courtney Kerwin,
Director, Regulatory Support Division.

[FR Doc. 2022-28268 Filed 12-27-22; 8:45 am]

BILLING CODE 6560-50-P